DEPARTMENT OF COMMERCE

International Trade Administration

A-570-846

Brake Rotors from the People's Republic of China: Notice of Extension of Time Limit for Preliminary Results in the Seventh Antidumping Duty Administrative Review and the Eleventh New Shipper Review

AGENCY: Import Administration, International Trade Administration, Department of Commerce.

EFFECTIVE DATE: December 17, 2004.

FOR FURTHER INFORMATION CONTACT: Amber Musser at (202) 482-1777, AD/CVD Operations, Office 9, Import Administration, International Trade Administration, U.S. Department of Commerce, 14th Street and Constitution Avenue, NW., Washington, DC, 20230.

Extension of Time Limit

Pursuant to section 751(a)(3)(A) of the Tariff Act of 1930, as amended (“the Act”), the Department of Commerce (“the Department”) shall make a preliminary determination in an administrative review of an antidumping duty order within 245 days after the last day of the anniversary month of the date of publication of the order. The Act further provides, however, that the Department may extend that 245-day period to 365 days if it determines it is not practicable to complete the review within the foregoing time period.

Pursuant to 751(a)(2)(B)(iv) of the Act, the Department shall make a preliminary determination in a new shipper review within 180 days after the date on which the review is initiated. However, if the case is extraordinarily complicated, it may extend the 180-day period for the preliminary results to 300 days.

The Department initiated the seventh administrative review of the antidumping duty order on brake rotors from the People's Republic of China (“PRC”) (69 FR 30282) on May 27, 2004 and the eleventh new shipper review of the antidumping duty order on brake rotors from the PRC (69 FR 29920) on May 26, 2004. Pursuant to section 351.214(j)(3) of its regulations, the Department is conducting these reviews concurrently.

The Department finds that it is not practicable to complete the preliminary results in the administrative review and new shipper review of brake rotors from the PRC within this time limit. Specifically, due to resource constraints and the number of respondents and issues in this review, we find that additional time is needed in order to complete these preliminary results.

Therefore, in accordance with section 751(a)(3)(A) of the Act, the Department is extending the time for completion of the preliminary results of these reviews until April 30, 2005.

Dated: December 10, 2004.
Barbara E. Tillman,
Acting Deputy Assistant Secretary for Import Administration.

[FR Doc. E4-3714 Filed 12-16-04; 8:45 am]

BILLING CODE: 3510-DS-S